DEPARTMENT OF COMMERCE

International Trade Administration

C-533-825

Notice of Extension of Time Limit for Preliminary Results of Administrative Review: Polyethylene Terephthalate (PET) Film from India

AGENCY: Import Administration, International Trade Administration, U.S. Department of Commerce.

EFFECTIVE DATE: February 21, 2006.

FOR FURTHER INFORMATION CONTACT: Toni Page or Scott Lindsay, Office of AD/CVD Operations 6, Import Administration, International Trade Administration, U.S. Department of Commerce, 14th Street and Constitution Avenue, NW., Washington DC 20230; telephone: (202) 482-1398 or (202) 482-0780, respectively.

SUPPLEMENTARY INFORMATION:

Background

On August 29, 2005, in response to timely requests from Dupont Teijin Films, Mitsubishi Polyester Film of America, and Toray Plastics (America), Inc., (collectively, Petitioners), Jindal Poly Films Limited (Jindal), and Garware Polyester Limited (Garware), the Department of Commerce (the Department) initiated an administrative review of the countervailing duty order on polyethylene terephthalate (PET) film from India with respect to Jindal, Garware, and Polyplex Corporation Limited. See Notice of Initiation of Antidumping and Countervailing Duty Administrative Reviews and Requests for Revocation in Part, 70 FR 51009 (August 29, 2005). The period of review is January 1, 2004 through December 31, 2004.

Extension of Time Limits for Preliminary Results

Section 351.213(h)(1) of the Department's regulations requires the Department to issue the preliminary results of a review within 245 days after the last day of the anniversary month of the order or suspension agreement for which the administrative review was requested, and final results of the review within 120 days after the date on which notice of the preliminary results are published in the Federal Register. However, if the Department determines that it is not practicable to complete the review within the aforementioned specified time limits, section 351.213(h)(2) of the Department's regulations allows the Department to extend the 245-day period to 365 days and to extend the 120-day period to 180 days. We determine that it is not practicable to complete the preliminary results of this review within the original time limit because, due to the large number of programs under review, the Department needs additional time to analyze the questionnaire responses and issue appropriate supplemental questionnaires. Therefore, the Department is extending the deadline for completion of the preliminary results of the administrative review of the countervailing duty order on PET film from India until no later than July 31, 2006.

This notice is published pursuant to sections 751(a)(1) and 777(i)(1) of the Tariff Act of 1930, as amended.

Dated: February 14, 2006.
Stephen J. Claeys,
Deputy Assistant Secretary for Import Administration.

[FR Doc. E6-2420 Filed 2-17-06; 8:45 am]

BILLING CODE 3510-DS-S